DEPARTMENT OF AGRICULTURE

Grain Inspection, Packers and Stockyards Administration (GIPSA)

Designation for the Decatur, IN Area

AGENCY: Grain Inspection, Packers and Stockyards Administration, USDA.

ACTION: Notice.

SUMMARY: GIPSA is announcing the designation of Northeast Indiana Grain Inspection, Inc. (Northeast Indiana) to provide official services under the United States Grain Standards Act (USGSA), as amended.

DATES: Effective January 1, 2017.

ADDRESSES: Sharon Lathrop, Compliance Officer, USDA, GIPSA, FGIS, QACD, 10383 North Ambassador Drive, Kansas City, MO 64153.

FOR FURTHER INFORMATION CONTACT: Sharon Lathrop, 816-891-0415, Sharon.L.Lathrop@usda.gov or FGIS.QACD@usda.gov.

SUPPLEMENTARY INFORMATION: In the December 12, 2016, Federal Register (81 FR 89428), GIPSA requested applications for designation to provide official services in the geographic area presently serviced by Northeast Indiana. Applications were due by January 11, 2017.

The current official agency, Northeast Indiana, was the only applicant for designation to provide official services in this area. As a result, GIPSA did not ask for additional comments.

GIPSA evaluated the designation criteria in section 79(f) of the USGSA (7 U.S.C. 79(f)) and determined that Northeast Indiana is qualified to provide official services in the geographic area specified in the Federal Register on December 12, 2016. This designation to provide official services in the specified area of Northeast Indiana is effective January 1, 2017, to December 31, 2021.

Interested persons may obtain official services by contacting this agency at the following telephone number:

Official agency | Headquarters location and telephone | Designation start | Designation end
Northeast Indiana | Decatur, IN 260-341-7497 | 1/1/2017 | 12/31/2021

Section 79(f) of the USGSA authorizes the Secretary to designate a qualified applicant to provide official services in a specified area after determining that the applicant is better able than any other applicant to provide such official services (7 U.S.C. 79 (f)). All applications and comments are available for public inspection at the office above during regular business hours (7 CFR 1.27(c)).

Randall D. Jones,
Acting Administrator, Grain Inspection, Packers and Stockyards Administration.

[FR Doc. 2017-07686 Filed 4-14-17; 8:45 am]

BILLING CODE 3410-KD-P